DEPARTMENT OF ENERGY

Federal Energy Regulatory Commission

Combined Notice of Filings #1

Take notice that the Commission received the following electric corporate filings:

Docket Numbers: EC24-111-000.

Applicants: Algonquin Power Co., Altius Renewables, ULC, Algonquin Energy Services Inc., Algonquin Power Sanger LLC, Altavista Solar, LLC, Carvers Creek LLC, Clearview Solar I, LLC, Deerfield Wind Energy, LLC, Deerfield Wind Energy 2, LLC, Great Bay Solar I, LLC, Great Bay Solar II, LLC, GSG 6, LLC, Minonk Wind, LLC, New Market Solar ProjectCo 1, LLC, New Market Solar ProjectCo 2, LLC, Odell Wind Farm, LLC, Sandy Ridge Wind, LLC, Sandy Ridge Wind 2, LLC, Shady Oaks Wind 2, LLC, Sugar Creek Wind One LLC.

Description: Joint Application for Authorization Under Section 203 of the Federal Power Act of Algonquin Power Co., et al.

Filed Date: 8/13/24.

Accession Number: 20240813-5192.

Comment Date: 5 p.m. ET 9/3/24.

Docket Numbers: EC24-112-000.

Applicants: Edgewood Energy, LLC, Equus Power I, L.P., Pinelawn Power, LLC, Shoreham Energy, LLC, Hull Street Energy, LLC.

Description: Joint Application for Authorization Under Section 203 of the Federal Power Act of Edgewood Energy, LLC, et al.

Filed Date: 8/13/24.

Accession Number: 20240813-5195.

Comment Date: 5 p.m. ET 9/3/24.

Take notice that the Commission received the following electric rate filings:

Docket Numbers: ER10-1585-026; ER10-1594-026; ER10-1597-010; ER10-1617-026; ER10-1624-011; ER10-1628-026; ER10-1632-028; ER10-2385-013; ER12-60-028; ER16-733-017; ER16-1148-017.

Applicants: Tenaska Energía de Mexico, S. de R. L. de C.V., LQA, LLC, Tenaska Power Management, LLC, Elkhorn Ridge Wind, LLC, Tenaska Power Services Co., Texas Electric Marketing, LLC, Tenaska Gateway Partners, Ltd., New Mexico Electric Marketing, LLC, Kiowa Power Partners, LLC, California Electric Marketing, LLC, Alabama Electric Marketing, LLC.

Description: Notice of Change in Status of Alabama Electric Marketing, LLC, et al.

Filed Date: 8/16/24.

Accession Number: 20240816-5270.

Comment Date: 5 p.m. ET 9/6/24.

Docket Numbers: ER14-199-003.

Applicants: Lakewood Cogeneration, L.P.

Description: Compliance filing: Informational Filing Pursuant to Schedule 2 of the PJM OATT & Request for Waiver to be effective N/A.

Filed Date: 8/19/24.

Accession Number: 20240819-5084.

Comment Date: 5 p.m. ET 9/9/24.

Docket Numbers: ER14-714-003.

Applicants: Essential Power Rock Springs, LLC.

Description: Compliance filing: Informational Filing Pursuant to Schedule 2 of the PJM OATT & Request for Waiver to be effective N/A.

Filed Date: 8/19/24.

Accession Number: 20240819-5082.

Comment Date: 5 p.m. ET 9/9/24.

Docket Numbers: ER14-715-003.

Applicants: Essential Power OPP, LLC.

Description: Compliance filing: Informational Filing Pursuant to Schedule 2 of the PJM OATT & Request for Waiver to be effective N/A.

Filed Date: 8/19/24.

Accession Number: 20240819-5065.

Comment Date: 5 p.m. ET 9/9/24.

Docket Numbers: ER18-2002-003.

Applicants: Essential Power Rock Springs, LLC.

Description: Compliance filing: Informational Filing Pursuant to Schedule 2 of the PJM OATT & Request for Waiver to be effective N/A.

Filed Date: 8/19/24.

Accession Number: 20240819-5073.

Comment Date: 5 p.m. ET 9/9/24.

Docket Numbers: ER20-2452-007.

Applicants: Hamilton Liberty LLC.

Description: Compliance filing: Informational Filing Pursuant to Schedule 2 of the PJM OATT & Request for Waiver to be effective N/A.

Filed Date: 8/19/24.

Accession Number: 20240819-5074.

Comment Date: 5 p.m. ET 9/9/24.

Docket Numbers: ER20-2453-008.

Applicants: Hamilton Patriot LLC.

Description: Compliance filing: Informational Filing Pursuant to Schedule 2 of the PJM OATT & Request for Waiver to be effective N/A.

Filed Date: 8/19/24.

Accession Number: 20240819-5076.

Comment Date: 5 p.m. ET 9/9/24.

Docket Numbers: ER22-1361-001.

Applicants: Georgia-Pacific Toledo LLC.

Description: Notice of Change in Status of Georgia-Pacific Toledo LLC.

Filed Date: 8/15/24.

Accession Number: 20240815-5219.

Comment Date: 5 p.m. ET 9/5/24.

Docket Numbers: ER24-2602-001.

Applicants: Fillmore County Solar Project, LLC.

Description: Tariff Amendment: Amendment to Market Based Rate Authority to be effective 9/1/2024.

Filed Date: 8/19/24.

Accession Number: 20240819-5182.

Comment Date: 5 p.m. ET 9/9/24.

Docket Numbers: ER24-2797-000.

Applicants: Midcontinent Independent System Operator, Inc.

Description: 205(d) Rate Filing: 2024-08-16_MISO-SPP JOA—Joint Targeted Interconnection Queue to be effective 11/14/2024.

Filed Date: 8/16/24.

Accession Number: 20240816-5251.

Comment Date: 5 p.m. ET 9/6/24.

Docket Numbers: ER24-2798-000.

Applicants: Southwest Power Pool, Inc.

Description: 205(d) Rate Filing: SPP-MISO JOA Revisions to Implement Joint Targeted Interconnection Queue to be effective 11/14/2024.

Filed Date: 8/16/24.

Accession Number: 20240816-5252.

Comment Date: 5 p.m. ET 9/6/24.

Docket Numbers: ER24-2800-000.

Applicants: Midcontinent Independent System Operator, Inc.

Description: 205(d) Rate Filing: 2024-08-19_SA 4326 ITC Midwest-Golden Stripe Solar Energy GIA (J1503) to be effective 8/7/2024.

Filed Date: 8/19/24.

Accession Number: 20240819-5034.

Comment Date: 5 p.m. ET 9/9/24.

Docket Numbers: ER24-2801-000.

Applicants: Mid-Atlantic Interstate Transmission, LLC, PJM Interconnection, L.L.C.

Description: Tariff Amendment: Mid-Atlantic Interstate Transmission, LLC submits tariff filing per 35.15: MAIT—Notice of Cancellation of ECSA SA No. 6301 to be effective 10/18/2024.

Filed Date: 8/19/24.

Accession Number: 20240819-5036.

Comment Date: 5 p.m. ET 9/9/24.

Docket Numbers: ER24-2802-000.

Applicants: Steele Flats Wind I, LLC.

Description: Baseline eTariff Filing: Steele Flats Wind I, LLC Application for Market-Based Rate Authorization to be effective 10/19/2024.

Filed Date: 8/19/24.

Accession Number: 20240819-5058.

Comment Date: 5 p.m. ET 9/9/24.

Docket Numbers: ER24-2803-000.

Applicants: PacifiCorp.

Description: Tariff Amendment: Notice of Termination (Rate Schedule No. 739) to be effective 11/7/2024.

Filed Date: 8/19/24.

Accession Number: 20240819-5080.

Comment Date: 5 p.m. ET 9/9/24.

Docket Numbers: ER24-2804-000.

Applicants: Constellation Mystic Power, LLC.

Description: Constellation Mystic Power, LLC submits a petition for approval of the uncontested Settlement Agreement and related materials establishing a settled Return on Equity.

Filed Date: 8/14/24.

Accession Number: 20240814-5171.

Comment Date: 5 p.m. ET 9/4/24.

Docket Numbers: ER24-2805-000.

Applicants: AEP Texas Inc.

Description: 205(d) Rate Filing: AEPTX-HyFuels Green Lake Wind Generation Interconnection Agreement to be effective 7/24/2024.

Filed Date: 8/19/24.

Accession Number: 20240819-5131.

Comment Date: 5 p.m. ET 9/9/24.

Docket Numbers: ER24-2806-000.

Applicants: Prosperity Wind, LLC.

Description: Baseline eTariff Filing: Application for Market Based Rate Authority to be effective 11/1/2024.

Filed Date: 8/19/24.

Accession Number: 20240819-5137.

Comment Date: 5 p.m. ET 9/9/24.

Docket Numbers: ER24-2807-000.

Applicants: Prairie Mist Solar Project, LLC.

Description: Baseline eTariff Filing: Baseline new to be effective 8/20/2024.

Filed Date: 8/19/24.

Accession Number: 20240819-5141.

Comment Date: 5 p.m. ET 9/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: August 19, 2024.
Debbie-Anne A. Reese,
Acting Secretary.

[FR Doc. 2024-19030 Filed 8-23-24; 8:45 am]

BILLING CODE 6717-01-P